DEPARTMENT OF AGRICULTURE

Submission for OMB Review; Comment Request

October 3, 2002.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Research Service

Title: Information Collection for Document Delivery Services.

OMB Control Number: 0518-0027.

Summary of Collection: The National Agricultural Library (NAL) accepts requests from libraries and other organizations in accordance with the national and international interlibrary loan code and guidelines. In its national role, NAL collects and supplies copies or loans of agricultural materials not found elsewhere. 7 USC 3125a and 7 CFR 505 gives NAL the authority to collect this information. NAL provides photocopies and loans of materials directly to USDA staff, other Federal agencies, libraries and other institutions, and indirectly to the public through their libraries. The Library charges for some of these activities through a fee schedule. In order to fill a request for reproduction or loan of items the library must have the name, mailing address, phone number, and patron ID number of the respondent initiating and request, and depending on the method of delivery, may require a fax number, e-mail address, or Ariel IP address. The collected information is used to deliver the material to the respondent, bill for and track payment of applicable fees, monitor the return to NAL of loaned material, identify and locate the requested material in NAL collections, and determine whether the respondent consents to the fees charged by NAL.

Need and Use of the Information: The information collected is used by NAL document delivery staff to identify the protocol for processing the request. The information collected determines whether the respondent is charged or exempt from any charges and what process the recipient uses to make payment if the request is chargeable. The information provided is also used by staff to process/package the reproduction or loan for delivery. Without the requested information NAL has no way to locate and deliver the loan or reproduction to the respondent, and thus cannot meet its mandate to supply agricultural material.

Description of Respondents: Federal Government; Not-for-profit institutions; State, Local or Tribal Government; Business or other for-profit.

Number of Respondents: 2500.

Frequency of Responses: Reporting: on occasion.

Total Burden Hours: 725.

National Agricultural Statistics Service

Title: Egg, Chicken, and Turkey Surveys.

OMB Control Number: 0535-0004.

Summary of Collection: The primary function of the National Agricultural Statistics Service (NASS) is to prepare and issue current official State and national estimates of crop and livestock production. Thousands of farmers, ranchers, agribusinesses and others voluntarily respond to nationwide surveys about crops, livestock, prices, and other agricultural activities. Estimates of egg, chicken, and turkey production are an integral part of this program. General authority for these data collection activities is granted under U.S. Code Title 7, Section 2204. This statute specifies “The Secretary of Agriculture shall procure and preserve all information concerning agriculture which she can obtain * * * by the collection of statistics * * * and shall distribute them among agriculturists”. Information published from the surveys in this docket is needed by USDA economists and government policy makers to ensure the orderly marketing of broilers, turkeys and eggs.

Need and Use of the Information: Statistics on these poultry products contribute to a comprehensive program of keeping the government and poultry industry abreast of anticipated changes. All of the poultry reports are used by producers, processors, feed dealers, and others in the marketing and supply channels as a basis for their production and marketing decisions.

Description of Respondents: Farms, Business or other for profit.

Number of Respondents: 3,149.

Frequency of Responses: Reporting: Weekly; Monthly; Annually.

Total Burden Hours: 3,133.

National Agricultural Statistics Service

Title: Agricultural Labor Survey.

OMB Control Number: 0535-0109.

Summary of Collection: The 1938 Agricultural Adjustment Act, as amended in 1948, requires wage rate data for computation of an index component. This component is used in calculation of parity prices. National Agricultural Statistics Service (NASS) primary function is to prepare and issue State and national estimates of crop and livestock production, disposition, and prices. The Agricultural Labor Survey provides employment data for equitable allocation and distribution of these funds to where seasonal workers need housing and education. The survey is the only timely and reliable source of information on the size of the farm worker population. NASS will collect information using a survey.

Need and Use of the Information: NASS will collect information on wage rate estimates and the year-to-year changes in these rates and how changes in wage rates help measure the changes in costs of production of major farm commodities. Farm worker organizations, private and government agencies will use agricultural labor data for the planning and placement of farm workers, in determining immigration policies and to measure the availability of farm workers across the Nation.

Description of Respondents: Farm.

Number of Respondents: 12,425.

Frequency of Responses: Reporting: Quarterly.

Total Burden Hours: 10,608.

Farm Service Agency

Title: USDA Registration Form to Request Electronic Access Code.

OMB Control Number: 0560-0219.

Summary of Collection: The USDA County Base Agency's (CBA) have developed a management and technical process that addresses user authentication and authorization prerequisites for providing services electronically. The process provides an electronic alternative to traditional ink signatures. The process is based on a one-time registration requirement for each CBA customer desiring access to any on-line services that require user authentication. The information collected on form AD-2016, USDA Registration Form to Request Electronic Access Code, is necessary to enable the authentication of users and grant them access to only those resources for which they are authorized.

Need and Use of the Information: The voluntary registration process applies to CBA customers and partners (non-CBA employees) who request Farm Service Agency, Rural Development, and Natural Resources Conservation Service provided services. Registration can be requested by the customer in person, by mail, or by fax. The information collected on form AD-2016 will be used to verify and validate the identity of registrants and to enable the electronic authentication of users. The user will then have access to these authorized resources without needing to re-authenticate within the context of a single Internet session.

Description of Respondents: Farms; Individuals or Households; Business or other for-profit; Not-for-profit institutions; Federal Government; State, Local or Tribal Government.

Number of Respondents: 1,100,000.

Frequency of Responses: Reporting: On occasion.

Total Burden Hours: 1,331,000.

Rural Housing Service

Title: 7 CFR 3575-A, “Community Program Guaranteed Loans”.

OMB Control Number: 0575-0137.

Summary of Collection: The Rural Housing Service (RHS) is authorized by Section 306 of the Consolidated Farm and Rural Development Act (7 U.S.C. 1926) to make loans to public agencies, nonprofit corporations, and Indian tribes for the development of essential community facilities primarily serving rural residents. The Community Facilities Division of the RHS is considered community Programs under the 7 CFR, part 3575, subpart A. Implementation of the Community Programs guaranteed loans program was effected to comply with the Appropriations Act of 1990 when Congress allocated funds for this authority. The guaranteed loan program encourages lender participation and provides specific guidance in the processing and servicing of guaranteed Community Facilities loans. RHS will collect information using several forms.

Need and Use of the Information: RHS will collect information to determine applicant/borrower eligibility, project feasibility, and to ensure borrowers operate on a sound basis and use loan funds for authorized purposes. Failure to collect proper information could result in improper determination of eligibility, improper use of funds, and/or unsound loans.

Description of Respondents: Not-for-profit institutions; State, Local or Tribal Government.

Number of Respondents: 125.

Frequency of Responses: Reporting: Quarterly.

Total Burden Hours: 76,977.

Animal & Plant Health Inspection Service

Title: Importation of Poultry Meat and Other Poultry Products from Sinaloa and Sonora Mexico

OMB Control Number: 0579-0144.

Summary of Collection: Title 21 U.S.C. authorizes sections 111, 114, 114a, 115, 120, 121, 125, 126, 134a, 134c, 134f, and 134g of 21 U.S.C. These authorities permit the Secretary to prevent, control and eliminate domestic diseases such as brucellosis, as well as to take actions to prevent and to manage exotic diseases such as exotic Newcastle disease and other foreign diseases. Disease prevention is the most effective method for maintaining a healthy animal population and enhancing the Animal & Plant Health Inspection Service (APHIS) ability to compete in exporting animals and animal products. Veterinary Services, a division within USDA's Animal and Plant Health Inspection Service (APHIS), is responsible for administering regulations intended to prevent the introduction of animal diseases, such as exotic Newcastle disease into the United States. APHIS currently has regulations in place that restrict the importation of poultry meat and other poultry products from Mexico due to the presence of exotic Newcastle disease in the country. However, APHIS does allow the importation of poultry meat and poultry products from the Mexican States of Sinaola and Sonora because they have determined that poultry meat and products from these two Mexican States pose a negligible risk of introducing exotic Newcastle disease into the United States. To ensure that these items are safe for importation, APHIS requires that certain data appear on the foreign meat inspection certificate that accompanies that poultry meat and other poultry products from Sinaloa and Sonora to the United Stats. APHIS also requires that serial numbered seals be applied to containers carrying the poultry meat and other poultry products.

Need and Use of the Information: APHIS will collect information to certify that the poultry meat or other poultry products were (1) derived from poultry born and raised in commercial breeding establishments in Sinaloa and Sonora; (2) derived from poultry that were slaughtered in Sinaloa or Sonora in a Federally-inspected slaughter plant approved to export these commodities to the United States in accordance with Food Safety & Inspection regulations; (3) processed at a Federally inspected processing plant in Sinaloa or Sonora; and (4) kept out of contact with poultry from any other State within Mexico. APHIS will also collect information to ensure that the poultry meat or poultry products from Sinaloa and Sonora pose the most negligible risk possible for introducing exotic Newcastle disease into the United States.

Description of Respondents: Business or other for-profit; Individuals or households; Not-for-profit institutions; Federal Government; State, Local or Tribal Government.

Number of Respondents: 10.

Frequency of Responses: Reporting: On occasion.

Total Burden Hours: 40.

Agricultural Marketing Service

Title: Livestock & Meat Market News.

OMB Control Number: 0581-0154.

Summary of Collection: The Agricultural Marketing Act of 1946 (7 U.S.C. 1621), Section 203(g), directs and authorizes the collection and dissemination of marketing information including adequate outlook information, on a market area basis, for the purpose of anticipating and meeting consumer requirements aiding in the maintenance of farm income and to bring about a balance between production and utilization. Livestock and Meat Market News provides a timely exchange of accurate and unbiased information on current marketing conditions (supply, demand, prices, trends, movement, and other information) affecting trade in livestock, meats, grain, and wool. Administered by the U.S. Department of Agriculture's Agricultural Marketing Service (AMS), this nationwide market news program is conducted in cooperation with approximately 30 States departments of agriculture. AMS will collect information using market reports.

Need and Use of the Information: AMS will collect information on price, supply, and movement of livestock, meat carcasses, meat and pork cuts, and meat hyproducts. Several agencies, agricultural universities and colleges use the information collected to keep apprised of the current market conditions, movement of livestock and meat in the United States and to determine available supplies and current pricing.

Description of Respondents: Business or other for-profit; State, Local or Tribal Government; Farm; Individuals or households.

Number of Respondents: 450.

Frequency of Responses: Reporting: Weekly; Other (Daily).

Total Burden Hours: 7,202.

Food and Nutrition Service

Title: Food Stamp Mail Issuance Report.

OMB Control Number: 0584-0015.

Summary of Collection: Section 7(d) of the Food Stamp Act of 1977 requires the Secretary of Agriculture to develop appropriate procedures for determining and monitoring the amount of food coupon inventories maintained by State agencies for the Food Stamp Program. Section 7(f) makes State agencies strictly liable for financial losses involved in coupon issuance with the exception of coupons sent through the mail to the extent prescribed in the regulations. The Food and Nutrition Service (FNS), on behalf of the Secretary, requires each coupon issuer to submit quarterly a written report of the issuer's operations during the periods. The FNS will collect information using FNS Form 259, Food Stamp Mail Issuance Report.

Need and Use of the Information: FNS will collect information to establish the issuance and accountability systems which ensures that only certified eligible households receive benefits; that program benefits are timely distributed in the correct amount; and that coupon issuance and reconciliation activities are properly conducted and accurately reported to FNS. The State agency is responsible, regardless of any agreements to the contrary, for ensuring that assigned duties are carried out in accordance with FSP regulations.

Description of Respondents: State, Local, or Tribal Government.

Number of Respondents: 200.

Frequency of Responses: Recordkeeping; Reporting: Quarterly.

Total Burden Hours: 67.

Agricultural Research Service

Title: Food Stamp Nutrition Connection Resource Sharing Form.

OMB Control Number: 0518-NEW.

Summary of Collection: In 2001, the United States Department of Agriculture's Food and Nutrition Service (FNS) established the Food Stamp Nutrition Connection to improve access to Food Stamp Program nutrition resources. The National Agricultural Library's Food and Nutrition Information Center (FNIC) currently develops and maintains this resource system. A proposed voluntary “Sharing Form” would give Food Stamp nutrition education providers the opportunity to share their resources and learn about existing materials. Data collected using this form will help FNIC identify nutrition education and training resources for review and inclusion in an online database. FNS encourages, but does not require or mandate, state Food Stamp nutrition education programs to submit materials to FNIC for inclusion in the Food Stamp Nutrition Connection database.

Need and Use of the Information: FNIC will use the collected information to help build an online database of nutrition education and training materials. Food Stamp nutrition education providers could use this information to identify and obtain curricula, lesson plan, research, training tools and participant materials. The information will be collected using online and printed versions of the form. Failure to collect this information would significantly inhibit FNIC's ability to provide up-to-date information on existing nutrition education materials that are appropriate for Food Stamp nutrition education programs.

Description of Respondents: Not-for-profit institutions; Federal Government; State, Local or Tribal Government; Business or other for-profit.

Number of Respondents: 50.

Frequency of Responses: Reporting: On occasion.

Total Burden Hours: 16.

Rural Business-Cooperative Service

Title: Survey of Cooperatives on Selecting Director Candidates for Director Elections.

OMB Control Number: 0570-NEW.

Summary of Collection: The Rural Business-Cooperative Service (RBS) mission is to assist farmer-owned cooperatives in improving the economic well being of their farmer-members. The Cooperative Marketing Act of 1926 established the Cooperative Services Program (CS). Cooperatives are a distinctive form of business in operating with democratic control and ownership by members. The agricultural businesses operated by cooperatives are becoming increasingly complicated and their industries are competitive. The existing conditions for Cooperatives practices and operations are not longer exceptive and they need to adopt formal methods for screening and evaluation.

Need and Use of the Information: RBS developed a survey to collect information on different methods and procedures used in selecting candidates for election to board of directors, for recruitment, and for monetary compensation for directors.

Description of Respondents: Business or other for-profit.

Number of Respondents: 490.

Frequency of Responses: Reporting: On occasion.

Total Burden Hours: 113.

Animal & Plant Health Inspection Service

Title: Foreign Quarantine Notices.

OMB Control Number: 0579-0049.

Summary of Collection: The United States Department of Agriculture is responsible for preventing plant disease or insect pests from entering the United States, preventing the spread of pests and noxious weeds not widely distributed in the United States, and eradicating those imported pests when eradication is feasible. The Plant Protection Act authorizes the Department to carry out this mission. Under the Plant Protection Act (Title IV, Pub. L. 106-224, 114 Stat. 438, 7 U.S.C. 7701-7772), the Secretary of Agriculture is authorized to prohibit or restrict the importation, entry, exportation, or movement in interstate commerce of plant pests and other articles to prevent the introduction of plant pests into the United States. Implementing the laws is necessary to prevent injurious plant and insect pest from entering the United States, a situation that could produce serious consequences for U.S. agriculture. The Animal and Plant Health Inspection Service (APHIS) is required to collect information from a variety of individuals, both within and outside the United States, who are involved in growing, packing, handling, transporting, and importing foreign plants, roots, bulbs, seeds, importing foreign logs, lumber, other unmanufactured wood articles, and other plant products. APHIS will collect this information using a number of forms.

Need and Use of the Information: APHIS will collect information to ensure that plants, fruits, vegetables, roots, bulbs, seeds, foreign logs, lumber, other unmanufactured wood articles, and other plant products imported into the United States do not harbor plant diseases or insect pests that could cause serious harm to U.S. agriculture.

Description of Respondents: Business or other for-profit; Individuals or households; Not-for-profit institutions; Farms; State, Local or Tribal Government.

Number of Respondents: 92,457.

Frequency of Responses: Reporting: On occasion.

Total Burden Hours: 91,138.

Animal & Plant Health Inspection Service

Title: TB Payments to El Paso Texas.

OMB Control Number: 0579-0193.

Summary of Collection: Title 21 U.S.C. authorizes sections 111, 114, 114a, 115, 120, 121, 125, 126, 134a, 134c, 134f, and 134g. These authorities permit the Secretary to prevent, control and eliminate domestic diseases such as tuberculosis, as well as to take actions to prevent and to manage exotic diseases such as foot-and-mouth disease, rinderpest, and other foreign animal diseases. More specifically, 21 U.S.C. 111, 115, and 118 authorize the Secretary of Agriculture to take such measures as she may deem proper to prevent the introduction or dissemination of any contagious or communicable disease of animals or live poultry from a foreign country into the United States or from one State to another. Disease prevention is the most effective method for maintaining a healthy animal population and enhancing the Animal and Plant Health Inspection (APHIS) ability to compete in exporting animals and animal products. Since 1985, State Animal Health Officials in Texas, along with APHIS, have been taking measure to eliminate tuberculosis in dairy herds in the El Paso, Texas area. As a result of these eradication efforts, dairy herds in the El Paso area have become free of tuberculosis, only to become reinfected again. Because of this situation, APHIS determined that in order to further the eradication of tuberculosis in the United States, it is necessary to remove all bovine dairy herds from El Paso area. APHIS published an interim rule that would allow them to make payments to El Paso dairy herd owners if these owners agree to dispose of their dairy herds, closing their existing dairy operations. and refrain from establishing new cattle breeding operations in the area. A number of information collection activities will be used to collect information for dairy owners.

Need and Use of the Information: APHIS will collect information to provide payment to owners of dairy cattle and other property used in connection with dairy operations in the area of El Paso, Texas. To be eligible for payment under this program, all owners of dairy operations in the area of El Paso, Texas must sign and adhere to an agreement with APHIS.

Description of Respondents: Business or other for-profit; State, Local or Tribal Government; Farms.

Number of Respondents: 95.

Frequency of Responses: Reporting: On occasion.

Total Burden Hours: 875.

Sondra A. Blakey,
Departmental Information Collection Clearance Officer.

[FR Doc. 02-25677 Filed 10-8-02; 8:45 am]

BILLING CODE 3410-01-M